DEPARTMENT OF LABOR

Employment and Training Administration

[TA-W-55,212]

SOS Staffing Services Employed at Ballard Medical Products, Draper, UT; Notice of Termination of Investigation

Pursuant to section 221 of the Trade Act of 1974, as amended, an investigation was initiated on July 9, 2004, in response to a worker petition filed by a State representative, on behalf of employees of SOS Staffing Services, Draper, Utah.

The petitioning group of workers is covered by a petition instituted on July 9, 2004 (TA-W-55,213) that is the subject of an ongoing investigation. Further investigation in this case would duplicate efforts and serve no purpose; therefore the investigation under this petition has been terminated.

Signed at Washington, DC this 23rd day of July 2004.
Elliott S. Kushner,
Certifying Officer, Division of Trade Adjustment Assistance.

[FR Doc. 04-18299 Filed 8-9-04; 8:45 am]

BILLING CODE 4510-30-P